SMALL BUSINESS ADMINISTRATION

Small Business Jobs Act: 504 Loan Program Debt Refinancing

AGENCY: U.S. Small Business Administration; Office of Financial Assistance.

ACTION: Notice of open meeting.

SUMMARY: The SBA is issuing this notice to announce the location, date, time and agenda for a meeting regarding the Small Business Jobs Act: 504 Loan Program Debt Refinancing. The meeting will be open to the public.

DATES: The meeting will be held on November 17, 2010, from 10:30 a.m. to approximately 1 p.m. Eastern Time.

ADDRESSES: The meeting will be held at the O'Neil Federal Building (Room # 301 [U.S. Housing and Urban Development]) located at 10 Causeway Street, Boston, Massachusetts 02222.

SUPPLEMENTARY INFORMATION: SBA announces a public meeting to be held by the SBA Office of Financial Assistance to discuss the 504 Loan Program Debt Refinancing established by § 1122 of the Small Business Jobs Act (Pub. L. 111-240). The purpose of the meeting is for the SBA Office of Financial Assistance to receive comments and suggestions on the implementation of the 504 Loan Program Debt Refinancing Program. All lenders and Certified Development Companies are invited to attend.

FOR FURTHER INFORMATION CONTACT: The meeting is open to the public; however, seating is limited so advance notice of attendance is requested. Anyone wishing to attend and/or make a presentation to the Office of Financial Assistance must contact Grady Hedgespeth, Director, Office of Financial Assistance by fax or e-mail, in order to be placed on the agenda: Grady Hedgespeth, Director, Office of Financial Assistance, 409 3rd Street, SW., 8th Floor, Washington, DC 20414, phone: (202) 205-7562 fax: (202) 481-0248 e-mail: Publicmeeting504debtrefi@sba.gov.

If you are not able to attend the meeting but would like to participate in the Ready Talk Conference call of the event, the telephone number is (866) 740-1260 and the Access Code is 3010101#.

Additionally, if you need accommodations because of a disability or require additional information, please contact Robert Nelson, District Director, at (617) 565-5561, e-mail: robert.nelson@sba.gov, SBA, Massachusetts District Office, 10 Causeway Street, Boston, Massachusetts 02222.

Grady B. Hedgespeth,
Director, Office of Financial Assistance.

[FR Doc. 2010-28352 Filed 11-9-10; 8:45 am]

BILLING CODE P